SOCIAL SECURITY ADMINISTRATION

Agency Information Collection Activities: Proposed Request

The Social Security Administration (SSA) publishes a list of information collection packages that will require clearance by the Office of Management and Budget (OMB) in compliance with Pub. L. 104-13, the Paperwork Reduction Act of 1995, effective October 1, 1995. The information collection package included in this notice is for approval of an existing OMB-approved information collection.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, Fax: 202-395-6974.

(SSA), Social Security Administration, DCFAM, Attn: Reports Clearance Officer, 1333 Annex Building, 6401 Security Blvd., Baltimore, MD 21235. Fax: 410-965-6400. E-mail: OPLM.RCO@ssa.gov.

The information collection listed below has been submitted to OMB for clearance. Your comments on the information collection would be most useful if received by OMB and SSA within 30 days from the date of this publication. You can obtain a copy of the OMB clearance package by calling the SSA Reports Clearance Officer at 410-965-0454, or by writing to the address listed above.

Medicare Subsidy Quality Review Case Analysis Forms—20 CFR 418(b)(5)—0960-0707. Under the aegis of the Medicare Modernization Act of 2003, SSA will make Medicare Part D subsidy determinations for the Medicare Prescription Drug program for Medicare beneficiaries with limited income and resources. The subsidy determination is based on applicants' answers to questions about categories such as household size, income, and resources. This information is self-reported by applicants using form OMB No. 0960-0696 (SSA-1020), and thus, SSA needs a way to determine if this form is being completed accurately and completely and a way to validate its determination decisions. To this end, SSA will use the Medicare Quality Review system to check the accuracy of the determination. In this system, SSA will conduct phone interviews with selected applicants and will confirm information such as household size, income, and resources. A questionnaire and several other forms will be used as part of the Medicare Quality Review System. The collection instruments, their descriptions, and burden information are listed in the table below.

Note: This Notice is for the permanent approval of this collection, which was cleared by OMB temporarily through February 2006 as an emergency information collection.

Type of Request: Extension of a currently approved information collection.

Form number and name | Description of form | Number of respondents | Frequency of response | Average burden per response (minutes) | Estimated annual burden (hours)
SSA-9301 (Medicare Subsidy Quality Review Case Analysis Questionnaire) | Telephone questionnaire which will be administered by SSA employees to applicants for Medicare Part D Subsidy. Includes questions about family size, marriage, income, assets, etc | 10,000 | 1 | 35 | 5,833
SSA-9302 (Notice of Quality Review Acknowledgement Form for those with Phones) | After receiving notice of the scheduled date/time of the telephone questionnaire, Part D applicants will return this form confirming their availability for the interview and making note of any special needs for the call | 10,000 | 1 | 15 | 2,500
SSA-9303 (Notice of Quality Review Acknowledgement Form for those without Phones) | Same as for SSA-9302, except used by participants without phones or whose phone numbers are not known by SSA. On form SSA-9303, however, participants confirm receipt of the letter and are asked to call SSA on a specified date | 1,000 | 1 | 15 | 250
SSA-9304 (Checklist of Required Information) | This checklist, which accompanies forms SSA-9302 and SSA-9303, is a list of the documentation respondents are supposed to have prepared when SSA calls them to conduct the Quality Review phone interview. Their burden is accounted for in the burdens for forms SSA-9302 and SSA-9303 |  |  |  |
SSA-9308 (Request for Information) | Form which SSA will send to various third parties to obtain/confirm information reported by beneficiaries | 20,000 | 1 | 15 | 5,000
SSA-9310 (Request for Documents) | Following the phone interview, SSA sends this notice to the participants advising them of the documents they must return to SSA | 10,000 | 1 | 5 | 833
SSA-9309 (Life Insurance Verification Form) | Form completed by insurance companies confirming type, face value, cash surrender value and dividends for insurance policies of applicants for Medicare Part D subsidy | 8,000 | 1 | 15 | 2,000
SSA-8510 (Authorization to the Social Security Administration to Obtain Personal Information) | Beneficiaries give their permission for SSA to contact third parties to obtain/confirm information | 10,000 | 1 | 5 | 833
Total |  | 69,000 |  |  | 17,249

Dated: February 2, 2006.
Elizabeth A. Davidson,
Reports Clearance Officer, Social Security Administration.

[FR Doc. E6-1690 Filed 2-7-06; 8:45 am]

BILLING CODE 4191-02-P